DEPARTMENT OF HEALTH AND HUMAN SERVICES

Centers for Disease Control and Prevention

[30-Day-13-0612]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Well-Integrated Screening and Evaluation for Women Across the Nation (WISEWOMAN) Reporting System (OMB #0920-0612, exp. 3/31/2013)—Extension—National Center for Chronic Disease Prevention and Health Promotion (NCCDPHP), Centers for Disease Control and Prevention (CDC).

Background and Brief Description

The WISEWOMAN program (Well-Integrated Screening and Evaluation for Women Across the Nation), administered by the Centers for Disease Control and Prevention (CDC), was established to examine ways to improve the delivery of services for women who have limited access to health care and elevated risk factors for cardiovascular disease (CVD). The program focuses on reducing CVD risk factors and provides screening services for select risk factors such as elevated blood cholesterol, hypertension and abnormal blood glucose levels. The program also provides lifestyle interventions and medical referrals. On an annual basis, 21 grantees funded through the WISEWOMAN program have provided services to approximately 30,000 women who are already participating in the National Breast and Cervical Cancer Early Detection Program (NBCCEDP), also administered by CDC.

CDC seeks a one-year extension of OMB approval to collect information about WISEWOMAN grantee activities in the final year of the five-year cooperative agreement. There are no changes to the number of respondents, the data items reported to CDC, the estimated burden per response, or the total estimated annualized burden. All information will continue to be collected twice per year.

Information reported to CDC includes baseline and follow-up data (12 months post enrollment) for all women served through the WISEWOMAN program. These data, called the minimum data elements (MDE), include data elements that describe risk factors for the women served in each program and data elements that describe the number and type of intervention sessions attended. Funded grantees compile the data from their existing databases and report the MDE to CDC electronically. The estimated burden per response for Screening and Assessment MDE is 16 hours, and the estimated burden per response for Lifestyle Intervention MDE is 8 hours.

WISEWOMAN grantees also submit semi-annual progress reports that describe programmatic activities, public education and outreach, professional education, and the delivery of services. Progress reports will continue to be submitted to CDC in hardcopy format. The estimated burden per response for each progress report is 16 hours.

The information collection is designed to support continuous program monitoring and improvement. CDC uses the MDE data to assess the effectiveness of the WISEWOMAN program in reducing the burden of cardiovascular disease risk factors among women who utilize program services. CDC uses the information submitted through progress reports to assess each grantee's progress toward meeting stated program objectives. Participation in the information collection is required under the terms of the WISEWOMAN cooperative agreement.

OMB approval is requested for one year. The total estimated annualized burden hours are 1,680.

Estimated Annualized Burden Hours
Type of respondent | Form name | Number of respondents | Number of responses per respondent | Average burden per response (in hr)
WISEWOMAN Grantees | Screening and Assessment MDE | 21 | 2 | 16
| Lifestyle Intervention MDE | 21 | 2 | 8
| Progress Report | 21 | 2 | 16

Dated: December 18, 2012.
Ron A. Otten,
Director, Office of Scientific Integrity (OSI), Office of the Associate Director for Science (OADS), Office of the Director, Centers for Disease Control and Prevention.

[FR Doc. 2012-30929 Filed 12-21-12; 8:45 am]

BILLING CODE 4163-18-P